DEPARTMENT OF AGRICULTURE

Animal and Plant Health Inspection Service

9 CFR Part 71

[Docket No. 00-094-2]

RIN 0579-AB84

Interstate Movement of Sheep and Goats

Correction

In rule document E9-7233 beginning on page 14703 in the issue of Wednesday, April 1, 2009, make the following correction:

On page 14706, TABLE 1—SHEEP AND GOATS: IMPORTS AND EXPORTS, 2007 should be corrected as follows:

Table 1—Sheep and Goats: Imports and Exports, 2007
Item | Imports: Numbers | Imports: Value in millions | Exports: Numbers | Exports: Value in millions
Sheep | 92 | $0.058 | 116,618 | $8.148
Goats | 33 | 0.010 | 9,231 | 0.597
Total | 125 | 0.068 | 125,849 | 8.745
Source: Global Trade Atlas, November 2008.

[FR Doc. Z9-7233 Filed 4-14-09; 8:45 am]

BILLING CODE 1505-01-D